DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 27, 2015 through August 24, 2015.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) a significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of businessby the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
85,292 | Dix Digital Prepress, Inc | Cicero, NY | May 6, 2013.
85,798 | Windsor Foods, One Source Staffing Solutions, Aerotek | Bloomsburg, PA | January 27, 2014.
85,954 | Baker Hughes Incorporated | Claremore, OK | April 22, 2014.
85,954A | Baker Hughes Incorporated | Broken Arrow, OK | April 22, 2014.
85,954B | Baker Hughes Incorporated | Hampton, AR | April 22, 2014
85,978 | Simpson Lumber Company, Sawmill and Mill #5, Express Employment | Shelton, WA | June 22, 2015.
85,996 | Willbanks Metals, Inc., Allied Forces Temp, Advantage Staffing, Resource Manufacturing | Tulsa, OK | May 6, 2014.
86,001 | The Boeing Company, Boeing Commercial Aircraft (BCA), Adecco USA, Chipton Ross, Cascade, etc | Seattle, WA | June 13, 2015.
86,001A | Leased Workers from 22nd Century Technologies, Inc., etc., 24 Seven, Inc., American Cybersystems, APA Services, etc | Seattle, WA | May 8, 2014.
86,086 | Mesabi Nugget LLC, Mining Resources LLC, Steel Dynamics, Vanhouse, Express Employment | Hoyt Lakes, MN | June 10, 2014.
86,086A | Mesabi Nugget LLC, Mining Resources LLC, Steel Dynamics, Vanhouse, Express Employment | Chisholm, MN | June 10, 2014.

The following certifications have been issued. The requirements of Section 222(a)(2)(B) (shift in production or services) of the Trade Act have been met.

TA-W No. | Subject firm | Location | Impact date
85,018 | IBM Corporation, Global Business Services, Centralized Services | Endicott, NY | January 15, 2013.
85,027 | CHF Industries, Inc | Loris, SC | January 17, 2013.
85,046 | AIG Claims Inc., Consumer Travel Claims Houston Division, AIG Global Claims Services, etc | Houston, TX | January 30, 2013.
85,052 | Symantec Corporation, Content Grading Unit, Pro Unlimited | Beaverton, OR | April 21, 2013.
85,073 | Symak Sales Co. Inc | Plattsburgh, NY | February 14, 2013.
85,076 | Support.com, Inc | Redwood City, CA | February 6, 2013.
85,078 | Sun-Times Media Productions, LLC, Pagination Department, Affinity Express | Chicago, IL | February 19, 2013.
85,111 | Windstream Corporation, Service Activation Group | Dalton, GA | February 28, 2013.
85,116 | Reebok International LTD., Adidas Group North American Accounts Payable Division | Canton, MA | March 3, 2013.
85,125 | Source Medical, Rome, Georgia Division, HIS (D/B/A Source Medical) | Rome, GA | March 6, 2013.
85,129 | Windstream Corporation, Facility Provisioning Department | Harrison, AR | March 7, 2013.
85,138 | ARRIS Group Inc., Xerox | State College, PA | March 11, 2013.
85,145 | AXA Equitable Life Insurance Company, AXA Finance, Inc., New Business Application Entry, Kelly Services | Charlotte, NC | March 5, 2013.
85,145A | AXA Equitable Life Insurance Company, AXA Finance, Inc., New Business Indexing Group, Kelly Services | Charlotte, NC | March 5, 2013.
85,166 | Hartford Fire Insurance Company, Hartford Financial Services Group, Inc., EBS/IT/Compliance/SOX Auditing | Hartford, CT | March 20, 2013.
85,175 | Virtual Training Company, Inc. | Stephens City, VA | March 24, 2013.
85,184 | Oracle America, Inc., Oracle Corporation, Oracle Deal Management Department | Broomfield, CO | March 27, 2013.
85,269 | International Flight Training Academy, Inc., Placement Pros and Select Staffing | Bakersfield, CA | April 4, 2013.
85,300 | Sensormatic Electronics LLC, Tyco International Corporation, Security Products, Accounts Receivable | Boca Raton, FL | April 29, 2013.
85,323 | Aviat Networks, R&amp;D Division, West Valley Staffing, and Burnett Staffing | Santa Clara, CA | May 20, 2013.
85,377 | Chemtrade Chemicals US LLC, Chemtrade Logistics, General Chemical | Parsippany, NJ | June 13, 2013.
85,399 | Sandler & Travis Trade Advisory Services, Inc., Reliance One | Farmington Hills, MI | June 26, 2013.
85,442 | Harman International Industries, Inc., Acro Service Organization | Novi, MI | July 23, 2013.
85,463 | Moser Baer Technologies, Inc., Moser Baer Limited India, Smart Systems Technology Center, Kelly Services | Canandaigua, NY | August 4, 2013.
85,470 | Elsevier, Inc., Reed Elsevier, Inc., Populus Group LLC, and K Force, Inc | Maryland Heights, MO | August 7, 2013.
85,485 | Stratus Technologies, Inc., Supply Chain Department | Maynard, MA | August 14, 2013.
85,514 | Avon Products, Inc., Customer Contact Center | Springdale, OH | February 23, 2014.
85,514A | Manpower Group, Avon Products, Inc., Customer Contact Center | Springdale, OH | August 30, 2013.
85,559 | Weatherford International LLC, US IRG (Issue Resolution Group), LA Recruitment | Houston, TX | September 25, 2013.
85,577 | British Airways, PLC, International Consolidated Airline Group, Customer Relations Division | Jamaica, NY | October 6, 2013.
85,584 | Wacom Technology Corporation, Northwest Staffing and Ultimate Staffing | Vancouver, WA | October 3, 2013.
85,619 | Oracle America, Inc., Tekelec Deal Management Division, Oracel Corp., Hirenetworks, Inc | Morrisville, NC | October 28, 2013.
85,642 | MetLife Group, Inc., EI&amp;A Service Management Group | Clarks Summit, PA | November 12, 2013.
85,777 | Scottsdale Healthcare Hospitals, Scottsdale Healthcare Transcription Department | Scottsdale, AZ | January 19, 2014.
85,869 | ProTeam, Inc., Emerson Tool Company, Accounting and Customer Service, etc | Boise, ID | March 9, 2014.
85,882 | The Nielsen Company (US), LLC, Monitor Plus System Control Department, Nielsen Co., LLC | Shelton, CT | March 22, 2015.
85,950 | TE Connectivity, Data and Devices Division, Tyco Electronics Corporation-US | Middletown, PA | April 16, 2014.
85,961 | Modine Manufacturing Company, Seek Professionals, LLC, Securitas Security Services USA, Inc | Washington, IA | April 24, 2014.
85,995 | Brantner &amp; Associates, Inc., TE Connectivity | El Cajon, CA | May 6, 2014.
86,004 | Cooper Power Systems, Power Delivery Division, Eaton Corporation, Cooper Industries, etc | Fayetteville, AR | May 8, 2014.
86,028 | Transicoil LLC, Peopleshare, Aerotek, Labor Ready, Mor-Staffing, Accountemps | Collegeville, PA | May 21, 2014.
86,029 | Cadmus Journal Service, Inc., Cenveo, Inc | Lancaster, PA | July 19, 2015.
86,038 | Pearson Education, Inc., U.S. Procurement Group | Old Tappan, NJ | May 27, 2014.
86,050 | Bank Of America, N.A., Mortgage Bankruptcy Operations, Collabera, Cannon Group, Crescent, etc | Simi Valley, CA | May 29, 2014.
86,061 | ArcelorMittal Ferndale, Inc., ArcelorMittal-USA, Leasing Systems, KJP, Enterprises, LM Consultants | Ferndale, MI | June 3, 2014.
86,074 | W.W. Grainger, Inc., People Scout | Lincolnshire, IL | June 5, 2014.
86,081 | Milco Industries, Inc | Bloomsburg, PA | June 9, 2014.
86,096 | Dow Electronic Materials, Metal Organics, Kelly Services, U.S. Security Associates | North Andover, MA | May 29, 2014.
86,102 | Vonage America, Inc., Payment Processing Team, Beeline, Horton Works, Cognizant, and Bravo | Holmdel, NJ | June 16, 2014.
86,122 | Hospira—Clayton, Kelly Services, Accentuate Staffing, NStar Global Services, etc | Clayton, NC | June 23, 2014.
86,123 | Bombardier Transportation (Holdings) USA, Inc., Bombardier, Inc., Bombardier, Systems, PPC, &amp; RCS, Adecco, etc | Pittsburgh, PA | June 9, 2014.
86,132 | Getinge Sourcing, LLC, Getinge AB | Rochester, NY | February 21, 2015.
86,132A | C1 Search and First Consulting, Inc., Working on Site at Getinge Sourcing, LLC, Getinge AB | Rochester, NY | June 25, 2014.
86,133 | Capital Group Companies Global, Information Technology Group, KForce, Pinpoint Resource Group, etc | San Antonio, TX | June 10, 2014.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioning groups of workers are covered by active certifications. Consequently, further investigation in these cases would serve no purpose since the petitioning group of workers cannot be covered by more than one certification at a time.

TA-W No. | Subject firm | Location | Impact date
85,998 | Baker Hughes Incorporated | Hampton, AR
86,032 | TRC Staffing Services, Inc., Teleflex | Atlanta, GA

I hereby certify that the aforementioned determinations were issued during the period of July 27, 2015 through August 24, 2015. These determinations are available on the Department's Web site www.tradeact/taa/taa_search_form.cfm under the searchable listing of determinations or by calling the Office of Trade Adjustment Assistance toll free at 888-365-6822.

Signed at Washington, DC, this 31st day of August 2015.
Del Min Amy Chen,
Certifying Officer, Office of Trade Adjustment Assistance.

[FR Doc. 2015-24003 Filed 9-21-15; 8:45 am]

BILLING CODE 4510-FN-P